DEPARTMENT OF VETERANS AFFAIRS

38 CFR Part 3

RIN 2900-AR10

Updating VA Adjudication Regulations for Disability or Death Benefit Claims Related to Exposure to Certain Herbicide Agents

Correction

In Proposed Rule Document 2024-02590, appearing on pages 9803-9813, in the issue of Monday, February 12, 2024, make the following correction:

On page 9803, in the second column, beginning on the thirty-third line, under the heading DATES:, the text reading “[insert date 60 days after date of publication in the Federal Register]” should read “April 12, 2024”.

[FR Doc. C1-2024-02590 Filed 2-22-24; 8:45 am]

BILLING CODE 1505-01-D